DEPARTMENT OF HOUSING AND URBAN DEVELOPMENT

[Docket No. FR-4980-N-08]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Ms. Kathryn M. Halvorson, Director, Air Force Real Property Agency, 1700 North Moore St., Suite 2300, Arlington, VA 22209-2802; (703) 696-5502; (These are not toll-free numbers).

Dated: February 17, 2005.
Mark R. Johnston,
Director, Office of Special Needs Assistance Programs.

Title V, Federal Surplus Property Program, Federal Register Report for 2/25/05

Suitable/Available Properties

Buildings (by State)

Alaska

Bldg. 7525

Elmendorf AFB

Elmendorf AFB AK 99506-

Landholding Agency: Air Force

Property Number: 18200230009

Status: Unutilized

Comment: 26,226 sq. ft., need rehab, possible asbestos/lead paint, most recent use—dormitory, off-site use only

Hawaii

Bldg. 849

Bellows AFS

Bellows AFS HI -

Landholding Agency: Air Force

Property Number: 18200330008

Status: Unutilized

Comment: 462 sq. ft., concrete storage facility

Missouri

Bldgs. 90A/B, 91A/B, 92A/B

Jefferson Barracks Housing

St. Louis MO 63125-

Landholding Agency: Air Force

Property Number: 18200220002

Status: Excess

Comment: 6450 sq. ft., needs repair, includes 2 acres

New York

Lockport Comm. Facility

Shawnee Road

Lockport Co: Niagara NY

Landholding Agency: Air Force

Property Number: 18200040004

Status: Excess

Comment: 2 concrete block bldgs., (415 & 2929 sq. ft.) on 7.68 acres

Bldg. 240

Rome Lab

Rome Co: Oneida NY 13441-

Landholding Agency: Air Force

Property Number: 18200340023

Status: Unutilized

Comment: 39108 sq. ft., presence of asbestos, most recent use—Electronic Research Lab

Bldg. 247

Rome Lab

Rome Co: Oneida NY 13441-

Landholding Agency: Air Force

Property Number: 18200340024

Status: Unutilized

Comment: 13199 sq. ft., presence of asbestos, most recent use—Electronic Research Lab

Bldg. 248

Rome Lab

Rome Co: Oneida NY 13441-

Landholding Agency: Air Force

Property Number: 18200340025

Status: Unutilized

Comment: 4000 sq. ft., presence of asbestos, most recent use—Electronic Research Lab

Bldg. 302

Rome Lab

Rome Co: Oneida NY 13441-

Landholding Agency: Air Force

Property Number: 18200340026

Status: Unutilized

Comment: 10288 sq. ft., presence of asbestos, most recent use—communications facility

South Carolina

24 Bldgs.

Hunley Park/Charleston AFB

Idaho Ave., Unit Type 3S

N. Charleston Co: SC 29404-4827

Landholding Agency: Air Force

Property Number: 18200430011

Status: Excess

Comment: 1624 sq. ft., needs extensive repair, presence of asbestos/lead paint, most recent use—residential, off-site use only

6 Bldgs.

Hunley Park/Charleston AFB

N. Charleston Co: SC 29404-

Location: 3510, 3514, 3517, 3528, 3533, 3538

Landholding Agency: Air Force

Property Number: 18200430012

Status: Excess

Comment: 1684 sq. ft., needs extensive repair, presence of asbestos/lead paint, most recent use—residential, off-site use only

Bldg. 3601

Hunley Park/Charleston AFB

N. Charleston Co: SC 29404-

Landholding Agency: Air Force

Property Number: 18200430013

Status: Excess

Comment: 1902 sq. ft., needs extensive repair, presence of asbestos/lead paint, most recent use—residential, off-site use only

5 Bldgs.

Hunley Park/Charleston AFB

N. Charleston Co: SC 29404-

Location: 3524, 3603, 3605, 3607, 3608

Landholding Agency: Air Force

Property Number: 18200430014

Status: Excess

Comment: 1788 sq. ft., needs extensive repair, presence of asbestos/lead paint, most recent use—residential, off-site use only

4 Bldgs.

Hunley Park/Charleston AFB

N. Charleston Co: SC 29404-

Location: 3009A/B, 3013A/B, 3202A/B, 3214A/B

Landholding Agency: Air Force

Property Number: 18200430015

Status: Excess

Comment: 2346 sq. ft., needs extensive repair, presence of asbestos/lead paint, most recent use—residential, off-site use only

3 Bldgs.

Hunley Park/Charleston AFB

N. Charleston Co: SC 29404-

Location: 3302A/B, 3418A/B, 3424A/B

Landholding Agency: Air Force

Property Number: 18200430016

Status: Excess

Comment: 2470 sq. ft., needs extensive repair, presence of asbestos/lead paint, most recent use—residential, off-site use only

Bldg. 3207A/B

Hunley Park/Charleston AFB

N. Charleston Co: SC 29404-

Landholding Agency: Air Force

Property Number: 18200430017

Status: Excess

Comment: 2688 sq. ft., needs extensive repair, presence of asbestos/lead paint, most recent use—residential, off-site use only

11 Bldgs.

Hunley Park/Charleston AFB

Unit Type 3E

N. Charleston Co: SC 29404-

Landholding Agency: Air Force

Property Number: 18200430018

Status: Excess

Comment: 2688 sq. ft., needs extensive repair, presence of asbestos/lead paint, most recent use—residential, off-site use only

24 Bldgs.

Hunley Park/Charleston AFB

Unit Type 3J

N. Charleston Co: SC 29404-

Landholding Agency: Air Force

Property Number: 18200430019

Status: Excess

Comment: 2787 sq ft., needs extensive repair, presence of asbestos/lead paint, most recent use—residential, off-site use only

Bldg. 3209A/B

Hunley Park/Charleston AFB

N. Charleston Co: SC 29404-

Landholding Agency: Air Force

Property Number: 18200430020

Status: Excess

Comment: 2944 sq. ft., needs extensive repair, presence of asbestos/lead paint, most recent use—residential, off-site use only

Bldgs. 3107A/B, 3205A/B

Hunley Park/Charleston AFB

N. Charleston Co: SC 29404-

Landholding Agency: Air Force

Property Number: 18200430021

Status: Excess

Comment: 2944 sq. ft., needs extensive repair, presence of asbestos/lead paint, most recent use—residential, off-site use only

5 Bldgs.

Hunley Park/Charleston AFB

Unit Type 4J

N. Charleston Co: SC 29404-

Landholding Agency: Air Force

Property Number: 18200430022

Status: Excess

Comment: 3423 sq. ft., needs extensive repair, presence of asbestos/lead paint, most recent use—residential, off-site use only

7 Bldgs.

Charleston AFB

Floor Plan 1

N. Charleston Co: SC 29404-4827

Landholding Agency: Air Force

Property Number: 18200430023

Status: Excess

Comment: 2135 sq. ft., presence of asbestos/lead paint, most recent use—residential, off-site use only

11 Bldgs.

Charleston AFB

Floor Plan 4AR

N. Charleston Co: SC 29404-

Landholding Agency: Air Force

Property Number: 18200430024

Status: Excess

Comment: 2652 sq. ft., presence of asbestos/lead paint, most recent use—residential, off-site use only

4 Bldgs.

Charleston AFB

N. Charleston Co: SC 29404-

Location: 2314A/B, 2327A/B, 2339A/B, 2397A/B

Landholding Agency: Air Force

Property Number: 18200430025

Status: Excess

Comment: 2722 sq. ft., presence of asbestos/lead paint, most recent use—residential, off-site use only

5 Bldgs.

Charleston AFB

N. Charleston Co: SC 29404-

Location: 2311A/B, 2322A/B, 2329A/B, 2385A/B, 2399A/B

Landholding Agency: Air Force

Property Number: 18200430026

Status: Excess

Comment: 2642 sq. ft., presence of asbestos/lead paint, most recent use—residential, off-site use only

4 Bldgs.

Charleston AFB

N. Charleston Co: SC 29404-

Location: 2315A/B, 2323A/B, 2330A/B, 2387A/B

Landholding Agency: Air Force

Property Number: 18200430027

Status: Excess

Comment: 2756 sq. ft., presence of asbestos/lead paint, most recent use—residential, off-site use only

3 Bldgs.

Charleston AFB

N. Charleston Co: SC 29404-

Location:

2321A/B, 2326A/B, 2336A/B

Landholding Agency: Air Force

Property Number: 18200430028

Status: Excess

Comment: 2766 sq. ft., presence of asbestos/lead paint, most recent use—residential, off-site use only

Bldg. 2331 A/B

Charleston AFB

N. Charleston Co: SC 29494-

Landholding Agency: Air Force

Property Number: 18200430029

Status: Excess

Comment: 2803 sq. ft., presence of asbestos/lead paint, most recent use—residential, off-site use only

Bldg. 2341A/B

Charleston AFB

N. Charleston Co: SC 29404-

Landholding Agency: Air Force

Property Number: 18200430030

Status: Excess

Comment: 2715 sq. ft., presence of asbestos/lead paint, most recent use—residential, off-site use only

6 Bldgs.

Charleston AFB

N. Charleston Co: SC 29404-

Location: 2346, 2354, 2363, 2382, 2389, 2396

Landholding Agency: Air Force

Property Number: 18200430031

Status: Excess

Comment: 1394 sq. ft., presence of asbestos/lead paint, most recent use—residential, off-site use only

15 Bldgs.

Charleston AFB

Floor Plan 6A

N. Charleston Co: SC 29404-

Landholding Agency: Air Force

Property Number: 18200430032

Status: Excess

Comment: 1378 sq. ft., presence of asbestos/lead paint, most recent use—residential, off-site use only

12 Bldgs.

Charleston AFB

Floor Plan 6B

N. Charleston Co: SC 29404-

Landholding Agency: Air Force

Property Number: 18200430033

Status: Excess

Comment: 1387 sq. ft., presence of asbestos/lead paint, most recent use—residential, off-site use only

13 Bldgs.

Charleston AFB

Floor Plan 1-1

N. Charleston Co: SC 29404-

Landholding Agency: Air Force

Property Number: 18200430034

Status: Excess

Comment: 2305 sq. ft., presence of asbestos/lead paint, most recent use—residential, off-site use only

Bldg. 2377

Charleston AFB

N. Charleston Co: SC 29404-

Landholding Agency: Air Force

Property Number: 18200430035

Status: Excess

Comment: 1662 sq. ft., presence of asbestos/lead paint, most recent use—residential, off-site use only

10 Bldgs.

Charleston AFB

Floor Plan D6

N. Charleston Co: SC 29204-

Landholding Agency: Air Force

Property Number: 18200430036

Status: Excess

Comment: 1241 sq. ft., presence of asbestos/lead paint, most recent use—residential, off-site use only

10 Bldgs.

Charleston AFB

Floor Plan D1

N. Charleston Co: SC 29404-

Landholding Agency: Air Force

Property Number: 18200430037

Status: Excess

Comment: 1250 sq. ft., presence of asbestos/lead paint, most recent use—residential, off-site use only

7 Bldgs.

Charleston AFB

Floor Plan DIV

N. Charleston Co: SC 29404-

Landholding Agency: Air Force

Property Number: 18200430038

Status: Excess

Comment: 1250 sq. ft., presence of asbestos/lead paint, most recent use—residential, off-site use only

7 Bldgs.

Charleston AFB

Floor Plan DV

N. Charleston Co: SC 29404-

Landholding Agency: Air Force

Property Number: 18200430039

Status: Excess

Comment: 1241 sq. ft., presence of asbestos/lead paint, most recent use—residential, off-site use only

7 Bldgs.

Charleston AFB

Floor Plan E6

N. Charleston Co: SC 29204-

Landholding Agency: Air Force

Property Number: 18200430040

Status: Excess

Comment: 1249 sq. ft., presence of asbestos/lead paint, most recent use—residential, off-site use only

11 Bldgs.

Charleston AFB

Floor Plan F6

N. Charleston Co: SC 29404-

Landholding Agency: Air Force

Property Number: 18200430041

Status: Excess

Comment: 1249 sq. ft., presence of asbestos/lead paint, most recent use—residential, off-site use only

11 Bldgs.

Charleston AFB

Floor Plan G6

N. Charleston Co: SC 29404-

Landholding Agency: Air Force

Property Number: 18200430042

Status: Excess

Comment: 1390 sq. ft., presence of asbestos/lead paint, most recent use—residential, off-site use only

9 Bldgs.

Charleston AFB

Floor Plan GV

N. Charleston Co: SC 29404-

Landholding Agency: Air Force

Property Number: 18200430043

Status: Excess

Comment: 1390 sq. ft., presence of asbestos/lead paint, most recent use—residential, off-site use only

8 Bldgs.

Charleston AFB

Floor Plan H6

N. Charleston Co: SC 29404-

Landholding Agency: Air Force

Property Number: 18200430044

Status: Excess

Comment: 1396 sq. ft., presence of asbestos/lead paint, most recent use—residential, off-site use only

Bldgs. 1841A/B, 1849A/B

Charleston AFB

N. Charleston Co: SC 29404-

Landholding Agency: Air Force

Property Number: 18200430045

Status: Excess

Comment: 2249 sq. ft., presence of asbestos/lead paint, most recent use—residential, off-site use only

9 Bldgs.

Charleston AFB

Floor Plan I6

N. Charleston Co: SC 29404-

Landholding Agency: Air Force

Property Number: 18200430046

Status: Excess

Comment: 1400 sq. ft., presence of asbestos/lead paint, most recent use—residential, off-site use only

7 Bldgs.

Charleston AFB

Floor Plan IV

N. Charleston Co: SC 29404-

Landholding Agency: Air Force

Property Number: 18200430047

Status: Excess

Comment: 1400 sq. ft., presence of asbestos/lead paint, most recent use—residential, off-site use only

4 Bldgs.

Charleston AFB

N. Charleston Co: SC 29404-

Location: 1846A/B, 1853A/B, 1862A/B, 2203A/B

Landholding Agency: Air Force

Property Number: 18200430048

Status: Excess

Comment: 2363 sq. ft., presence of asbestos/lead paint, most recent use—residential, off-site use only

40 Bldgs.

Charleston AFB

Floor Plan 2A

N. Charleston Co: SC 29404-

Landholding Agency: Air Force

Property Number: 18200430049

Status: Excess

Comment: 2387 sq. ft., presence of asbestos/lead paint, most recent use—residential, off-site use only

Bldg. 1765A/B

Charleston AFB

N. Charleston Co: SC 29404-

Landholding Agency: Air Force

Property Number: 18200430050

Status: Excess

Comment: 2558 sq. ft., presence of asbestos/lead paint, most recent use—residential, off-site use only

42 Bldgs.

Charleston AFB

Floor Plan 2R

N. Charleston Co: SC 29404-

Landholding Agency: Air Force

Property Number: 18200430051

Status: Excess

Comment: 2558 sq. ft., presence of asbestos/lead paint, most recent use—residential, off-site use only

Bldg. 1828A/B

Charleston AFB

N. Charleston Co: SC 29404-

Landholding Agency: Air Force

Property Number: 18200430052

Status: Excess

Comment: 2330 sq. ft., presence of asbestos/lead paint, most recent use—residential, off-site use only

3 Bldgs.

Charleston AFB

N. Charleston Co: SC 29404-

Location: 2309A/B, 2320A/B, 2335A/B

Landholding Agency: Air Force

Property Number: 18200430053

Status: Excess

Comment: 2766 sq. ft., presence of asbestos/lead paint, most recent use—residential, off-site use only

South Dakota

West Communications Annex

Ellsworth Air Force Base

Ellsworth AFB Co: Meade SD 57706-

Landholding Agency: Air Force

Property Number: 18199340051

Status: Unutilized

Comment: 2 bldgs. on 2.37 acres, remote area, lacks infrastructure, road hazardous during winter storms, most recent use—industrial storage

Land (by State)

Nebraska

Hastings Radar Bomb Scoring

Hastings Co: Adams NE 68901-

Landholding Agency: Air Force

Property Number: 18199810027

Status: Unutilized

Comment: 11 acres

South Dakota

S. Nike Ed. Annex Land

Ellsworth AFB

Pennington SD 57706-

Landholding Agency: Air Force

Property Number: 18200220010

Status: Unutilized

Comment: 7 acres w/five foundations from demolished bldgs. remain on site; with a road and a parking lot

Suitable/Unavailable Properties

Buildings (by State)

Colorado

Bldg. 100

La Junta Strategic Range

La Junta Co: Otero CO 81050-9501

Landholding Agency: Air Force

Property Number: 18200230001

Status: Excess

Comment: 7760 sq. ft., most recent use—admin/electronic equip. maintenance

Bldg. 101

La Junta Strategic Range

La Junta Co: Otero CO 81050-9501

Landholding Agency: Air Force

Property Number: 18200230002

Status: Excess

Comment: 336 sq. ft., most recent use—storage

Bldg. 102

La Junta Strategic Range

La Junta Co: Otero CO 81050-9501

Landholding Agency: Air Force

Property Number: 18200230003

Status: Excess

Comment: 1056 sq. ft., most recent use—storage

Bldg. 103

La Junta Strategic Range

La Junta Co: Otero CO 81050-9501

Landholding Agency: Air Force

Property Number: 18200230004

Status: Excess

Comment: 784 sq. ft., most recent use—storage

Bldg. 104

La Junta Strategic Range

La Junta Co: Otero CO 81050-9501

Landholding Agency: Air Force

Property Number: 18200230005

Status: Excess

Comment: 312 sq. ft., most recent use—storage

Bldg. 106

La Junta Strategic Range

La Junta Co: Otero CO 81050-9501

Landholding Agency: Air Force

Property Number: 18200230006

Status: Excess

Comment: 100 sq. ft., most recent use—storage

New York

Bldg. 1225

Verona Text Annex

Verona Co: Oneida NY 13478-

Landholding Agency: Air Force

Property Number: 18200220014

Status: Unutilized

Comment: 3865 sq. ft., needs repair, presence of asbestos/lead paint, most recent use—research lab

Bldg. 1226

Verona Test Annex

Verona Co: Oneida NY 13478-

Landholding Agency: Air Force

Property Number: 18200220015

Status: Unutilized

Comment: 7500 sq. ft., most recent use—storage

Bldg. 1227

Verona Text Annex

Verona Co: Oneida NY 13478-

Landholding Agency: Air Force

Property Number: 18200220016

Status: Unutilized

Comment: 1152 sq. ft., presence of asbestos/lead paint, most recent use—power station

Bldg. 1231

Verona Test Annex

Verona Co: Oneida NY 13478-

Landholding Agency: Air Force

Property Number: 18200220017

Status: Unutilized

Comment: 3865 sq. ft., presence of asbestos/lead paint/volatile organic compounds, access requirements, most recent use—research lab

Bldg. 1233

Verona Test Annex

Verona Co: Oneida NY 13478-

Landholding Agency: Air Force

Property Number: 18200220018

Status: Unutilized

Comment: 1152 sq. ft., needs repair, presence of asbestos/lead paint/volatile organic compounds, access requirements, most recent use—power station

Bldgs. 1235, 1239

Verona Test Annex

Verona Co: Oneida NY 13478-

Landholding Agency: Air Force

Property Number: 18200220019

Status: Unutilized

Comment: 144/825 sq. ft., need repairs, presence of lead paint, most recent use—electric switch station

Bldg. 1241

Verona Test Annex

Verona Co: Oneida NY 13478-

Landholding Agency: Air Force

Property Number: 18200220020

Status: Unutilized

Comment: 159 sq. ft., presence of lead paint, most recent use—sewage pump station

Bldg. 1243

Verona Test Annex

Verona Co: Oneida NY 13478-

Landholding Agency: Air Force

Property Number: 18200220021

Status: Unutilized

Comment: 25 sq. ft., most recent use—waste treatment

Bldg. 1245

Verona Test Annex

Verona Co: Oneida NY 13478-

Landholding Agency: Air Force

Property Number: 18200220022

Status: Unutilized

Comment: 3835 sq. ft., needs repair, presence of asbestos/lead paint, most recent use—research lab

Bldg. 1247

Verona Test Annex

Verona Co: Oneida NY 13478-

Landholding Agency: Air Force

Property Number: 18200220023

Status: Unutilized

Comment: 576 sq. ft., needs repair, presence of asbestos/lead paint, most recent use—power station

Bldg. 1250 + land

Verona Test Annex

Verona Co: Oneida NY 13478-

Landholding Agency: Air Force

Property Number: 18200220024

Status: Unutilized

Comment: 11,766 sq. ft. offices/lab with 495 acres, presence of asbestos/lead paint/wetlands

Bldg. 1253

Verona Test Annex

Verona Co: Oneida NY 13478-

Landholding Agency: Air Force

Property Number: 18200220025

Status: Unutilized

Comment: 3835 sq. ft., needs repair, presence of asbestos/lead paint/volatile organic compounds, access requirements, most recent use—research lab

Bldg. 1255

Verona Test Annex

Verona Co: Oneida NY 13478-

Landholding Agency: Air Force

Property Number: 18200220026

Status: Unutilized

Comment: 576 sq. ft., needs repair, presence of lead paint/volatile organic compounds, access requirement, most recent use—power station

Bldg. 1261

Verona Test Annex

Verona Co: Oneida NY 13478-

Landholding Agency: Air Force

Property Number: 18200220027

Status: Unutilized

Comment: 3835 sq. ft., needs repair, presence of asbestos/lead paint, most recent use—research lab

Bldg. 1263

Verona Test Annex

Verona Co: Oneida NY 13478-

Landholding Agency: Air Force

Property Number: 18200220028

Status: Unutilized

Comment: 576 sq. ft. needs repair, presence of lead paint, most recent use—power station

Bldgs. 1266, 1269

Verona Test Annex

Verona Co: Oneida NY 13478-

Landholding Agency: Air Force

Property Number: 18200220029

Status: Unutilized

Comment: 3730/3865 sq. ft., need repairs, presence of asbestos/lead paint, most recent use—research lab

Bldg. 1271

Verona Test Annex

Verona Co: Oneida NY 13478-

Landholding Agency: Air Force

Property Number: 18200220030

Status: Unutilized

Comment: 1152 sq. ft., needs repair, presence of lead paint, most recent use—power station

Bldg. 1273

Verona Test Annex

Verona Co: Oneida NY 13478-

Landholding Agency: Air Force

Property Number: 18200220031

Status: Unutilized

Comment: 87 sq. ft., presence of asbestos, most recent use—sewage pump station

Bldg. 1277

Verona Test Annex

Verona Co: Oneida NY 13478-

Landholding Agency: Air Force

Property Number: 18200220032

Status: Unutilized

Comment: 3865 sq. ft., needs repair, presence of asbestos/lead paint, most recent use—research lab

Bldg. 1279

Verona Test Annex

Verona Co: Oneida NY 13478-

Landholding Agency: Air Force

Property Number: 18200220033

Status: Unutilized

Comment: 1152 sq. ft., needs repair, presence of lead paint, most recent use—power station

Bldg. 1285

Verona Test Annex

Verona Co: Oneida NY 13478-

Landholding Agency: Air Force

Property Number: 18200220034

Status: Unutilized

Comment: 4690 sq. ft., needs repair, presence of asbestos/lead paint, most recent use—research lab

Bldg. 1287

Verona Test Annex

Verona Co: Oneida NY 13478-

Landholding Agency: Air Force

Property Number: 18200220035

Status: Unutilized

Comment: 1152 sq. ft., needs repair, presence of lead paint, most recent use—power station

Washington

22 Bldgs./Geiger Heights

Fairchild AFB

Spokane WA 99224-

Landholding Agency: Air Force

Property Number: 18200420001

Status: Unutilized

Comment: 1625 sq. ft., possible asbestos/lead paint, most recent use—residential

Bldg. 404/Geiger Heights

Fairchild AFB

Spokane WA 99224-

Landholding Agency: Air Force

Property Number: 18200420002

Status: Unutilized

Comment: 1996 sq. ft., possible asbestos/lead paint, most recent use—residential

11 Bldgs./Geiger Heights

Fairchild AFB

Spokane WA 99224-

Landholding Agency: Air Force

Property Number: 18200420003

Status: Unutilized

Comment: 2134 sq. ft., possible asbestos/lead paint, most recent use—residential

Bldg. 297/Geiger Heights

Fairchild AFB

Spokane WA 99224-

Landholding Agency: Air Force

Property Number: 18200420004

Status: Unutilized

Comment: 1425 sq. ft., possible asbestos/lead paint, most recent use—residential

9 Bldgs./Geiger Heights

Fairchild AFB

Spokane WA 99224-

Landholding Agency: Air Force

Property Number: 18200420005

Status: Unutilized

Comment: 1620 sq. ft., possible asbestos/lead paint, most recent use—residential

22 Bldgs./Geiger Heights

Fairchild AFB

Spokane WA 99224-

Landholding Agency: Air Force

Property Number: 18200420006

Status: Unutilized

Comment: 2850 sq. ft., possible asbestos/lead paint, most recent use—residential

51 Bldgs./Geiger Heights

Fairchild AFB

Spokane WA 99224-

Landholding Agency: Air Force

Property Number: 18200420007

Status: Unutilized

Comment: 2574 sq. ft., possible asbestos/lead paint, most recent use—residential

Bldg. 402/Geiger Heights

Fairchild AFB

Spokane WA 99224-

Landholding Agency: Air Force

Property Number: 18200420008

Status: Unutilized

Comment: 2451 sq. ft., possible asbestos/lead paint, most recent use—residential

5 Bldgs./Geiger Heights

Fairchild AFB

222, 224, 271, 295, 260

Spokane WA 99224-

Landholding Agency: Air Force

Property Number: 18200420009

Status: Unutilized

Comment: 3043 sq. ft., possible asbestos/lead paint, most recent use—residential

5 Bldgs./Geiger Heights

Fairchild AFB

102, 183, 118, 136, 113

Spokane WA 99224-

Landholding Agency: Air Force

Property Number: 18200420010

Status: Unutilized

Comment: 2599 sq. ft., possible asbestos/lead paint, most recent use—residential

Land (by State)

South Dakota

Tract 133

Ellsworth AFB

Box Elder Co: Pennington SD 57706-

Landholding Agency: Air Force

Property Number: 18200310004

Status: Unutilized

Comment: 53.23 acres

Tract 67

Ellsworth AFB

Box Elder Co: Pennington SD 57706-

Landholding Agency: Air Force

Property Number: 18200310005

Status: Unutilized

Comment: 121 acres, bentonite layer in soil, causes movement

Unsuitable Properties

Buildings (by State)

Alaska

Bldg. 15532

Elmendorf AFB

Elmendorf AFB AK 99506-

Landholding Agency: Air Force

Property Number: 18200220001

Status: Unutilized

Reasons: Within airport runway clear zone; Secured Area

Bldg. 8354

Elmendorf AFB

Elmendorf AFB AK 99506-

Landholding Agency: Air Force

Property Number: 18200240001

Status: Unutilized

Reason: Extensive deterioration

Bldg. 11827

Elmendorf AFB

Elmendorf AFB AK 99506-

Landholding Agency: Air Force

Property Number: 18200240002

Status: Unutilized

Reasons: Within 2000 ft. of flammable or explosive material; Secured Area

Bldg. 7537

Elmendorf Air Force Base

Elmendorf AFB AK 99506-

Landholding Agency: Air Force

Property Number: 18200320001

Status: Unutilized

Reason: Extensive deterioration

Bldg. 9340

Elmendorf Air Force Base

Elmendorf AFB AK 99506-

Landholding Agency: Air Force

Property Number: 18200320002

Status: Unutilized

Reason: Extensive deterioration

Bldg. 9342

Elmendorf Air Force Base

Elmendorf AFB AK 99506-

Landholding Agency: Air Force

Property Number: 18200320003

Status: Unutilized

Reason: Extensive deterioration

Bldg. 12737

Elmendorf Air Force Base

Elmendorf AFB AK 99506-

Landholding Agency: Air Force

Property Number: 18200320004

Status: Unutilized

Reason: Extensive deterioration

Bldg. 13251

Elmendorf Air Force Base

Elemendorf AFB AK 99506-

Landholding Agency: Air Force

Property Number: 18200320005

Status: Unutilized

Reason: Extensive deterioration

Bldg. 29453

Elmendorf Air Force Base

Elmendorf AFB AK 99506-

Landholding Agency: Air Force

Property Number: 18200320006

Status: Unutilized

Reason: Extensive deterioration

Bldg. 6527

Elmendorf AFB

Elmendorf AFB AK 99506-

Landholding Agency: Air Force

Property Number: 18200330001

Status: Unutilized

Reason: Extensive deterioration

Bldg. 12739

Elmendorf AFB

Elmendorf AFB AK 99506-

Landholding Agency: Air Force

Property Number: 18200330002

Status: Unutilized

Reason: Extensive deterioration

Bldg. 4314

Elmendorf AFB

Elmendorf AFB AK 99506-

Landholding Agency: Air Force

Property Number: 18200340001

Status: Unutilized

Reason: Extensive deterioration

Bldg. 6527

Elmendorf AFB

Elmendorf AFB AK 99506-

Landholding Agency: Air Force

Property Number: 18200340002

Status: Unutilized

Reason: Extensive deterioration

Bldg. 7541

Elmendorf AFB

Elmendorf AFB AK 99506-

Landholding Agency: Air Force

Property Number: 18200340003

Status: Unutilized

Reason: Extensive deterioration

Bldg. 8111

Elmendorf AFB

Elmendorf AFB AK 99506-

Landholding Agency: Air Force

Property Number: 18200340004

Status: Unutilized

Reason: Extensive deterioration

Bldg. 9489

Elmendorf AFB

Elmendorf AFB AK 99506-

Landholding Agency: Air Force

Property Number: 18200340005

Status: Unutilized

Reason: Extensive deterioration

Bldg. 10547

Elmendorf AFB

Elmendorf AFB AK 99506-

Landholding Agency: Air Force

Property Number: 18200340006

Status: Unutilized

Reason: Extensive deterioration

California

Bldg. 30101

Vandenberg AFB

Vandenberg Co: Santa Barbara CA 93437-

Landholding Agency: Air Force

Property Number: 18200210019

Status: Unutilized

Reason: Secured Area

Bldgs. 30131, 30709

Vandenberg AFB

Vandenberg Co: Santa Barbara CA 93437-

Landholding Agency: Air Force

Property Number: 18200210020

Status: Unutilized

Reason: Secured Area

Bldgs. 30137, 30701

Vandenberg AFB

Vandenberg Co: Santa Barbara CA 93437-

Landholding Agency: Air Force

Property Number: 18200210021

Status: Unutilized

Reason: Secured Area

Bldg. 30235

Vandenberg AFB

Vandenberg Co: Santa Barbara CA 93437-

Property Number: 18200210022

Status: Unutilized

Reason: Secured Area

Bldgs. 30238, 30446

Vandenberg AFB

Vandenberg Co: Santa Barbara CA

Landholding Agency: Air Force

Property Number: 18200210023

Status: Unutilized

Reason: Secured Area

Bldgs. 30239, 30444

Vandenberg AFB

Vandenberg Co: Santa Barbara CA 93437-

Landholding Agency: Air Force

Property Number: 18200210024

Status: Unutilized

Reason: Secured Area

Bldgs. 30306, 30335, 30782

Vandenberg AFB

Vandenberg Co: Santa Barbara CA 93437-

Landholding Agency: Air Force

Property Number: 18200210025

Status: Unutilized

Reason: Secured Area

Bldgs. 30339, 30340, 30341

Vandenberg AFB

Vandenberg Co: Santa Barbara CA 93437-

Landholding Agency: Air Force

Property Number: 18200210026

Status: Unutilized

Reason: Secured Area

Bldg. 30447

Vandenberg AFB

Vandenberg Co: Santa Barbara CA 93437-

Landholding Agency: Air Force

Property Number: 18200210027

Status: Unutilized

Reason: Secured Area

Bldg. 30524

Vandenberg AFB

Vandenberg Co: Santa Barbara CA 93437-

Landholding Agency: Air Force

Property Number: 18200210028

Status: Unutilized

Reason: Secured Area

Bldg. 30647

Vandenberg AFB

Vandenberg Co: Santa Barbara CA 93437-

Landholding Agency: Air Force

Property Number: 18200210029

Status: Unutilized

Reason: Secured Area

Bldgs. 30710, 30717

Vandenberg AFB

Vandenberg Co: Santa Barbara CA 93437-

Landholding Agency: Air Force

Property Number: 18200210030

Status: Unutilized

Reason: Secured Area

Bldgs. 30718, 30607

Vandenberg AFB

Vandenberg Co: Santa Barbara CA 93437-

Landholding Agency: Air Force

Property Number: 18200210031

Status: Unutilized

Reason: Secured Area

Bldgs. 30722, 30735

Vandenberg AFB

Vandenberg Co: Santa Barbara CA 93437-

Landholding Agency: Air Force

Property Number: 18200210032

Status: Unutilized

Reason: Secured Area

Bldgs. 30775, 30777

Vandenberg AFB

Vandenberg Co: Santa Barbara CA 93437-

Landholding Agency: Air Force

Property Number: 18200210033

Status: Unutilized

Reason: Secured Area

Bldgs. 30830, 30837

Vandenberg AFB

Vandenberg Co: Santa Barbara CA 93437-

Landholding Agency: Air Force

Property Number: 18200210034

Status: Unutilized

Reason: Secured Area

Bldgs. 30839, 30844, 30854

Vandenberg AFB

Vandenberg Co: Santa Barbara CA 93437-

Landholding Agency: Air Force

Property Number: 18200210035

Status: Unutilized

Reason: Secured Area

Bldg. 06522

Vandenberg AFB

Vandenberg AFB Co: Santa Barbara CA 93437-

Landholding Agency: Air Force

Property Number: 18200330004

Status: Unutilized

Reasons: Secured Area; Extensive deterioration

23 Bldgs.

Edwards AFB

Edwards AFB Co: Kern CA 93524-

Location: 7022-7037, 7039-7040, 7042, 7044, 7046-7048

Landholding Agency: Air Force

Property Number: 18200410002

Status: Unutilized

Reason: Secured Area

Bldg. 98

Vandenberg AFB

Oak Mountain Annex

Santa Barbara Co: CA 93437-

Landholding Agency: Air Force

Property Number: 18200430001

Status: Unutilized

Reasons: Secured Area; Extensive deterioration

Bldg. 488

Vandenberg AFB

Santa Barbara Co: CA 93437-

Landholding Agency: Air Force

Property Number: 18200430002

Status: Unutilized

Reasons: Secured Area; Extensive deterioration

Bldg. 535

Vandenberg AFB

Santa Barbara Co: CA 93437-

Landholding Agency: Air Force

Property Number: 18200430003

Status: Unutilized

Reasons: Secured Area; Extensive deterioration

Bldgs. 734, 738-739

Vandenberg AFB

Santa Barbara Co: CA 93437-

Landholding Agency: Air Force

Property Number: 18200430004

Status: Unutilized

Reason: Secured Area

Bldg. 946

Vandenberg AFB

Santa Barbara Co: CA 93437-

Landholding Agency: Air Force

Property Number: 18200430005

Status: Unutilized

Reason: Secured Area

Bldgs. 1200, 1201

Vandenberg AFB

Santa Barbara Co: CA 93437-

Landholding Agency: Air Force

Property Number: 18200430006

Status: Unutilized

Reasons: Secured Area; Extensive deterioration

Bldg. 1205

Vandenberg AFB

Santa Barbara Co: CA 93437-

Landholding Agency: Air Force

Property Number: 18200430007

Status: Unutilized

Reasons: Secured Area; Extensive deterioration

36 Bldgs.

Edwards AFB

Area F Housing

Kern Co: CA 93524-

Landholding Agency: Air Force

Property Number: 18200430008

Status: Unutilized

Reasons: Secured Area; Extensive deterioration

Bldgs. 7105, 7106

Edwards AFB

Area C

Kern Co: CA 93524-

Landholding Agency: Air Force

Property Number: 18200430009

Status: Unutilized

Reasons: Secured Area; Extensive deterioration

28 Bldgs.

Edwards AFB

Area C

Kern Co: CA 93524-

Landholding Agency: Air Force

Property Number: 18200440001

Status: Excess

Reasons: Secured Area; Extensive deterioration

Bldg. 719

Vandenberg AFB

Lompoc Co: Santa Barbara CA 93437-

Landholding Agency: Air Force

Property Number: 18200510001

Status: Unutilized

Reason: Secured Area

Bldg. 725

Vandenberg AFB

Lompoc Co: Santa Barbara CA 93437-

Landholding Agency: Air Force

Property Number: 18200510002

Status: Unutilized

Reason: Secured Area

Bldg. 729

Vandenberg AFB

Lompoc Co: Santa Barbara CA 93437-

Landholding Agency: Air Force

Property Number: 18200510003

Status: Unutilized

Reason: Secured Area

Bldg. 734

Vandenberg AFB

Lompoc Co: Santa Barbara CA 93437-

Landholding Agency: Air Force

Property Number: 18200510004

Status: Unutilized

Reason: Secured Area

Bldg. 737

Vandenberg AFB

Lompoc Co: Santa Barbara CA 93437-

Landholding Agency: Air Force

Property Number: 18200510005

Status: Unutilized

Reason: Secured Area

Bldg. 742

Vandenberg AFB

Lompoc Co: Santa Barbara CA 93437-

Landholding Agency: Air Force

Property Number: 18200510006

Status: Unutilized

Reason: Secured Area

Bldg. 746

Vandenberg AFB

Lompoc Co: Santa Barbara CA 93437-

Landholding Agency: Air Force

Property Number: 18200510007

Status: Unutilized

Reason: Secured Area

87 Buildings

Edwards AFB

Area “F”

Kern Co: CA 93524-

Landholding Agency: Air Force

Property Number: 18200510008

Status: Unutilized

Reasons: Secured Area; Extensive deterioration

7 Buildings

Edwards AFB

Area “C”

Kern Co: CA 93524-

Landholding Agency: Air Force

Property Number: 18200510009

Status: Unutilized

Reasons: Secured Area; Extensive deterioration

Colorado

Bldg. 105

Peterson AFB

Colorado Springs Co: El Paso CO 80914-

Landholding Agency: Air Force

Property Number: 18200310003

Status: Underutilized

Reasons: Within airport runway clear zone; Secured Area

Bldg. 106

Peterson AFB

Colorado Springs Co: El Paso CO 80914-8090

Landholding Agency: Air Force

Property Number: 18200340010

Status: Underutilized

Reasons: Within 2000 ft. of flammable or explosive material; Within airport runway clear zone; Secured Area

Bldg. 107

Peterson AFB

Colorado Springs Co: El Paso CO 80914-8090

Landholding Agency: Air Force

Property Number: 18200340011

Status: Underutilized

Reasons: Within 2000 ft. of flammable or explosive material; Within airport runway clear zone; Secured Area

Bldg. 108

Peterson AFB

Colorado Springs Co: El Paso CO 80914-8090

Landholding Agency: Air Force

Property Number: 18200340012

Status: Underutilized

Reasons: Within 2000 ft. of flammable or explosive material; Within airport runway clear zone; Secured Area

Bldg. 1166

Peterson AFB

Colorado Springs Co: El Paso CO 80914-1630

Landholding Agency: Air Force

Property Number: 18200410003

Status: Underutilized

Reason: Secured Area

Florida

Bldg. 1345

Cape Canaveral AFS

Cape Canaveral Co: Brevard FL 32907-

Landholding Agency: Air Force

Property Number: 18200210016

Status: Unutilized

Reasons: Within 2000 ft. of flammable or explosive material; Secured Area

Bldg. 55122

Cape Canaveral AFS

Cape Canaveral Co: Brevard FL 32907-

Landholding Agency: Air Force

Property Number: 18200210018

Status: Unutilized

Reasons: Within 2000 ft. of flammable or explosive material; Secured Area

Bldg. 1705

Cape Canaveral AFS

Cape Canaveral Co: Brevard FL 32907-

Landholding Agency: Air Force

Property Number: 18200330005

Status: Unutilized

Reasons: Within 2000 ft. of flammable or explosive material; Secured Area; Extensive deterioration

Bldg. 70500 V.I.B.

Cape Canaveral

Brevard Co: FL 32907-

Landholding Agency: Air Force

Property Number: 18200510010

Status: Underutilized

Reason: Secured Area

Georgia

Bldg. 340

Savannah IAP

Garden City Co: Chatham GA 31418-

Landholding Agency: Air Force

Property Number: 18200430010

Status: Excess

Reason: Secured Area

Bldg. B1412

International Airport

Garden City Co: Chatham GA 31408-

Landholding Agency: Air Force

Property Number: 18200440002

Status: Excess

Reason: Within 2000 ft. of flammable or explosive material

Hawaii

Bldg. 503

Bellows AFS

Bellows AFS HI

Landholding Agency: Air Force

Property Number: 18200330007

Status: Unutilized

Reasons: Secured Area; Extensive deterioration

Bldg. 907

Hickam AFB

Hickam AFB HI

Landholding Agency: Air Force

Property Number: 18200330009

Status: Unutilized

Reasons: Secured Area; Extensive deterioration

Bldg. 954

Hickam AFB

Hickam AFB HI

Landholding Agency: Air Force

Property Number: 18200330010

Status: Unutilized

Reasons: Secured Area; Extensive deterioration

Bldg. 980

Hickam AFB

Hickam AFB HI

Landholding Agency: Air Force

Property Number: 18200330011

Status: Unutilized

Reason: Secured Area

Bldg. 992

Hickam AFB

Hickam AFB HI

Landholding Agency: Air Force

Property Number: 18200330012

Status: Unutilized

Reason: Secured Area

Bldg. 1035

Hickam AFB

Hickam AFB HI

Landholding Agency: Air Force

Property Number: 18200330013

Status: Unutilized

Reason: Secured Area

Bldgs. 1709, 1721

Hickam AFB

Hickam AFB HI

Landholding Agency: Air Force

Property Number: 18200330014

Status: Unutilized

Reasons: Secured Area; Extensive deterioration

Bldg. 2041

Hickam AFB

Hickam AFB HI

Landholding Agency: Air Force

Property Number: 18200330015

Status: Unutilized

Reasons: Secured Area; Extensive deterioration

Bldg. 2044

Hickam AFB

Hickam AFB HI

Landholding Agency: Air Force

Property Number: 18200330016

Status: Unutilized

Reasons: Secured Area; Extensive deterioration

Bldg. 2104

Hickam AFB

Hickam AFB HI

Landholding Agency: Air Force

Property Number: 18200330017

Status: Unutilized

Reason: Secured Area

Bldg. 3018

Hickam AFB

Hickam AFB HI

Landholding Agency: Air Force

Property Number: 18200330018

Status: Unutilized

Reasons: Secured Area; Extensive deterioration

Bldg. 3202

Hickam AFB

Hickam AFB HI

Landholding Agency: Air Force

Property Number: 18200330019

Status: Unutilized

Reasons: Within 2000 ft. of flammable or explosive material; Secured Area; Extensive deterioration

Bldgs. 3338, 3356

Hickam AFB

Hickam AFB HI

Landholding Agency: Air Force

Property Number: 18200330020

Status: Unutilized

Reasons: Secured Area; Extensive deterioration

Bldg. 3432

Hickam AFB

Hickam AFB HI

Landholding Agency: Air Force

Property Number: 18200330021

Status: Unutilized

Reasons: Secured Area; Extensive deterioration

Bldg. 3375

Hickam AFB

Hickam AFB HI

Landholding Agency: Air Force

Property Number: 18200330031

Status: Unutilized

Reason: Secured Area

Bldgs. 743, 1002, 6100

Johnston Atoll Airfield

Honolulu HI

Landholding Agency: Air Force

Property Number: 18200340013

Status: Unutilized

Reasons: Within 2000 ft. of flammable or explosive material; Within airport runway clear zone; Extensive deterioration

Bldgs. 1091, 1092

Hickam AFB

Hickam Co: HI

Landholding Agency: Air Force

Property Number: 18200440003

Status: Unutilized

Reasons: Within airport runway clear zone; Secured Area; Extensive deterioration

Bldg. 1864

Hickam AFB

Hickam Co: HI

Landholding Agency: Air Force

Property Number: 18200440004

Status: Unutilized

Reasons: Secured Area; Extensive deterioration

Bldg. 2074

Hickam AFB

Hickam Co: HI

Landholding Agency: Air Force

Property Number: 18200440005

Status: Unutilized

Reasons: Secured Area; Extensive deterioration

Bldg. 2174

Hickam AFB

Hickam Co: HI

Landholding Agency: Air Force

Property Number: 18200440006

Status: Unutilized

Reasons: Within 2000 ft. of flammable or explosive material; Secured Area

Bldgs. 3426, 3431

Hickam AFB

Hickam Co: HI

Landholding Agency: Air Force

Property Number: 18200440007

Status: Unutilized

Reasons: Secured Area; Extensive deterioration

Bldgs. 12, 14

Kokee AFB

Kokee Co: HI

Landholding Agency: Air Force

Property Number: 18200440008

Status: Unutilized

Reasons: Secured Area; Extensive deterioration

Bldgs. 1091, 1092

Hickam AFB

Hickam Co: HI

Landholding Agency: Air Force

Property Number: 18200510011

Status: Unutilized

Reasons: Within airport runway clear zone; Secured Area; Extensive deterioration

Bldg. 1864

Hickam AFB

Hickam Co: HI

Landholding Agency: Air Force

Property Number: 18200510012

Status: Unutilized

Reasons: Secured Area; Extensive deterioration

Bldg. 2074

Hickam AFB

Hickam Co: HI

Landholding Agency: Air Force

Property Number: 18200510013

Status: Unutilized

Reasons: Secured Area; Extensive deterioration

Bldg. 2174

Hickam AFB

Hickam Co: HI

Landholding Agency: Air Force

Property Number: 18200510014

Status: Unutilized

Reasons: Within 2000 ft. of flammable or explosive material; Secured Area

Bldg. 3426

Hickam AFB

Hickam Co: HI

Landholding Agency: Air Force

Property Number: 18200510015

Status: Unutilized

Reasons: Floodway; Secured Area; Extensive deterioration

Bldg. 3431

Hickam AFB

Hickam Co: HI

Landholding Agency: Air Force

Property Number: 18200510016

Status: Unutilized

Reasons: Floodway; Secured Area; Extensive deterioration

Bldgs. 12, 14

Kokee AFB

Kokee Co: HI

Landholding Agency: Air Force

Property Number: 18200510017

Status: Unutilized

Reasons: Secured Area; Extensive deterioration

Idaho

Bldg. 1328

Mountain Home AFB

Mountain Home Co: Elmore ID 83648-

Landholding Agency: Air Force

Property Number: 18200240003

Status: Excess

Reason: Within 2000 ft. of flammable or explosive material

Montana

Bldg. 547

Malmstrom AFB

Malmstrom AFB Co: Cascade MT 59402-

Landholding Agency: Air Force

Property Number: 18200240004

Status: Unutilized

Reasons: Within 2000 ft. of flammable or explosive material; Secured Area

Bldg. 1084

Malmstrom AFB

Malmstrom AFB Co: Cascade MT 59402-

Landholding Agency: Air Force

Property Number: 18200240006

Status: Unutilized

Reasons: Within 2000 ft. of flammable or explosive material; Secured Area

Bldg. 2025

Malmstrom AFB

Malmstrom AFB Co: Cascade MT 59402-

Landholding Agency: Air Force

Property Number: 18200240007

Status: Unutilized

Reason: Secured Area

Bldg. 1700

Malmstrom AFB

Malmstrom AFB Co: Cascade MT 59402-

Landholding Agency: Air Force

Property Number: 18200330022

Status: Unutilized

Reasons: Within 2000 ft. of flammable or explosive material; Secured Area; Extensive deterioration

New Mexico

Bldg. 14170

Cannon AFB

Cannon AFB Co: Curry NM

Landholding Agency: Air Force

Property Number: 18200230010

Status: Unutilized

Reason: Secured Area

Bldg. 14240

Cannon AFB

Cannon AFB NM

Landholding Agency: Air Force

Property Number: 18200230011

Status: Unutilized

Reason: Secured Area

Bldg. 14270

Cannon AFB

Cannon AFB Co: Curry NM

Landholding Agency: Air Force

Property Number: 18200230012

Status: Unutilized

Reason: Secured Area

Bldg. 14330

Cannon AFB

Cannon AFB Co: Curry NM

Landholding Agency: Air Force

Property Number: 18200230013

Status: Unutilized

Reason: Secured Area

Bldg. 14350

Cannon AFB

Cannon AFB Co: Curry NM

Landholding Agency: Air Force

Property Number: 18200230014

Status: Unutilized

Reason: Secured Area

Bldg. 14370

Cannon AFB

Cannon AFB Co: Curry NM

Landholding Agency: Air Force

Property Number: 18200230015

Status: Unutilized

Reason: Secured Area

Bldg. 14390

Cannon AFB

Cannon AFB Co: Curry NM

Landholding Agency: Air Force

Property Number: 18200230016

Status: Unutilized

Reason: Secured Area

Bldg. 524

Holloman AFB

Otero NM 88330-

Landholding Agency: Air Force

Property Number: 18200330024

Status: Unutilized

Reasons: Within 2000 ft. of flammable or explosive material; Secured Area

Bldg. 1076

Holloman AFB

Otero NM 88330-

Landholding Agency: Air Force

Property Number: 18200330025

Status: Unutilized

Reasons: Secured Area; Extensive deterioration

Bldg. 1190

Holloman AFB

Otero NM 88330-

Landholding Agency: Air Force

Property Number: 18200330026

Status: Unutilized

Reasons: Secured Area; Extensive deterioration

Bldg. 1264

Holloman AFB

Otero NM 88330-

Landholding Agency: Air Force

Property Number: 18200330027

Status: Unutilized

Reason: Secured Area

Bldg. 5001

Holloman AFB

Otero NM 88330-

Landholding Agency: Air Force

Property Number: 18200330028

Status: Unutilized

Reason: Secured Area

Bldg. 5012

Holloman AFB

Otero NM 88330-

Landholding Agency: Air Force

Property Number: 18200330029

Status: Unutilized

Reason: Secured Area

Bldg. 615

Kirtland AFB

Kirtland AFB Co: Bernalillo NM 87117-5663

Landholding Agency: Air Force

Property Number: 18200340014

Status: Unutilized

Reasons: Secured Area; Extensive deterioration

Bldg. 736

Kirtland AFB

Kirtland AFB Co: Bernalillo NM 87117-5663

Landholding Agency: Air Force

Property Number: 18200340015

Status: Unutilized

Reason: Secured Area

Bldg. 1013

Kirtland AFB

Kirtland AFB Co: Bernalillo NM 87117-5663

Landholding Agency: Air Force

Property Number: 18200340016

Status: Unutilized

Reason: Secured Area

Bldg. 20419

Kirtland AFB

Kirtland AFB Co: Bernalillo NM 87117-5663

Landholding Agency: Air Force

Property Number: 18200340017

Status: Unutilized

Reason: Secured Area

Bldgs. 29014, 29016, 29017

Kirtland AFB

Kirtland AFB Co: Bernalillo NM 87117-5663

Landholding Agency: Air Force

Property Number: 18200340018

Status: Unutilized

Reasons: Secured Area; Extensive deterioration

Bldg. 30102

Kirtland AFB

Kirtland AFB Co: Bernalillo NM 87117-5663

Landholding Agency: Air Force

Property Number: 18200340019

Status: Unutilized

Reason: Secured Area

Bldgs. 37532, 37534

Kirtland AFB

Kirtland AFB Co: Bernalillo NM 87117-5663

Landholding Agency: Air Force

Property Number: 18200340020

Status: Unutilized

Reasons: Secured Area; Extensive deterioration

Bldg. 57005

Kirtland AFB

Kirtland AFB Co: Bernalillo NM 87117-5663

Landholding Agency: Air Force

Property Number: 18200340021

Status: Unutilized

Reasons: Secured Area; Extensive deterioration

Bldgs. 57006, 57013

Kirtland AFB

Kirtland AFB Co: Bernalillo NM 87117-5663

Landholding Agency: Air Force

Property Number: 18200340022

Status: Unutilized

Reasons: Secured Area; Extensive deterioration

Bldgs. 10, 11

Holloman AFB

Holloman Co: Otero NM 88330-

Landholding Agency: Air Force

Property Number: 18200410005

Status: Unutilized

Reason: Secured Area

New York

6 UG Missle Silos

Youngstown Test Annex

Porter Co: Niagara NY

Landholding Agency: Air Force

Property Number: 18200220003

Status: Unutilized

Reason: Extensive deterioration

Bldg. 100

Youngstown Test Annex

Porter Co: Niagara NY

Landholding Agency: Air Force

Property Number: 18200220004

Status: Unutilized

Reason: Extensive deterioration

Bldg. 101

Youngstown Test Annex

Porter Co: Niagara NY

Landholding Agency: Air Force

Property Number: 18200220005

Status: Unutilized

Reason: Extensive deterioration

Bldg. 104

Youngstown Test Annex

Porter Co: Niagara NY

Landholding Agency: Air Force

Property Number: 18200220006

Status: Unutilized

Reason: Extensive deterioration

Bldg. 107

Youngstown Test Annex

Porter Co: Niagara NY

Landholding Agency: Air Force

Property Number: 18200220007

Status: Unutilized

Reason: Extensive deterioration

Bldg. 109

Youngstown Test Annex

Porter Co: Niagara NY

Landholding Agency: Air Force

Property Number: 18200220008

Status: Unutilized

Reason: Extensive deterioration

Bldg. 116

Youngstown Test Annex

Porter Co: Niagara NY

Landholding Agency: Air Force

Property Number: 18200220009

Status: Unutilized

Reason: Extensive deterioration

Bldgs. 735, 740

Hancock Field

Syracuse Co: Onondaga NY 13211-

Landholding Agency: Air Force

Property Number: 18200440009

Status: Underutilized

Reasons: Within 2000 ft. of flammable or explosive material; Secured Area

Bldgs. 762, 778

Hancock Field

Syracuse Co: Onondaga NY 13211-

Landholding Agency: Air Force

Property Number: 18200440010

Status: Underutilized

Reasons: Within 2000 ft. of flammable or explosive material; Secured Area

North Carolina

Bldgs. 20, 25

Charlotte/Douglas IAP

Charlotte Co: Mecklenburg NC 28208-

Landholding Agency: Air Force

Property Number: 18200440011

Status: Excess

Reasons: Within 2000 ft. of flammable or explosive material; Secured Area

Pennsylvania

Bldgs. 201, 203, 204

Pittsburgh IAP

Coraopolis Co: Allegheny PA 15108-

Landholding Agency: Air Force

Property Number: 18200440012

Status: Excess

Reason: Secured Area

Bldgs. 208, 210, 211

Pittsburgh IAP

Coraopolis Co: Allegheny PA 15108-

Landholding Agency: Air Force

Property Number: 18200440013

Status: Excess

Reason: Secured Area

Rhode Island

Facilities 9, 10

Quonset State Airport

N. Kingstown Co: RI 02852-

Landholding Agency: Air Force

Property Number: 18200440014

Status: Unutilized

Reasons: Within 2000 ft. of flammable or explosive material; Secured Area

Facility 13

Quonset State Airport

N. Kingstown Co: RI 02852-

Landholding Agency: Air Force

Property Number: 18200440015

Status: Unutilized

Reasons: Within 2000 ft. of flammable or explosive material; Within airport runway clear zone; Secured Area

Facility 25

Quonset State Airport

N. Kingstown Co: RI 02852-

Landholding Agency: Air Force

Property Number: 18200440016

Status: Unutilized

Reasons: Within 2000 ft. of flammable or explosive material; Secured Area

South Carolina

Bldg. 264

McEntire Air Natl Station

Eastover Co: Richland SC 29044-

Landholding Agency: Air Force

Property Number: 18200440017

Status: Excess

Reason: Secured Area

8 Buildings

Shaw AFB

Sumter Co: SC 29152-5123

Landholding Agency: Air Force

Property Number: 18200510018

Status: Underutilized

Reason: Secured Area

39 Buildings

Shaw AFB

Sumter Co: SC 29152-5123

Landholding Agency: Air Force

Property Number: 18200510019

Status: Underutilized

Reason: Secured Area

139 Buildings

Shaw AFB

Sumter Co: SC 29152-5123

Landholding Agency: Air Force

Property Number: 18200510020

Status: Underutilized

Reason: Secured Area

South Dakota

Bldg. 6000

Ellsworth AFB

Meade Co: SD 57706-

Landholding Agency: Air Force

Property Number: 18200510021

Status: Underutilized

Reason: Secured Area

Tennessee

Bldgs. 104, 105

Alcoa ANG Station

Louisville Co: Blount TN 37777-

Landholding Agency: Air Force

Property Number: 18200440018

Status: Unutilized

Reason: Secured Area

Bldg. 106

Alcoa ANG Station

Louisville Co: Blount TN 37777-

Landholding Agency: Air Force

Property Number: 18200440019

Status: Unutilized

Reason: Secured Area

Bldgs. 109, 110

Alcoa ANG Station

Louisville Co: Blount TN 37777-

Landholding Agency: Air Force

Property Number: 18200440020

Status: Unutilized

Reason: Secured Area

Bldg. 111

Alcoa ANG Station

Louisville Co: Blount TN 37777-

Landholding Agency: Air Force

Property Number: 18200440021

Status: Unutilized

Reason: Secured Area

Texas

Bldg. 1307

Hensley Field ANG Station

Dallas TX 75211-9820

Landholding Agency: Air Force

Property Number: 18200330030

Status: Excess

Reason: Extensive deterioration

Virginia

Bayview Tower

Langley AFB

Langley AFB VA 23665-

Landholding Agency: Air Force

Property Number: 18200240012

Status: Unutilized

Reason: Floodway

Bldg. 943/Storage Units

Langley AFB

Langley AFB VA 23665-

Landholding Agency: Air Force

Property Number: 18200410006

Status: Unutilized

Reason: Secured Area

Wyoming

Bldg. 360

F. E. Warren AFB

Cheyenne Co: Laramie WY 82005-5000

Landholding Agency: Air Force

Property Number: 18200240013

Status: Unutilized

Reasons: Secured Area; Extensive deterioration

Bldg. 354

F. E. Warren AFB

Laramie Co: WY 82005-

Landholding Agency: Air Force

Property Number: 18200510022

Status: Underutilized

Reason: Secured Area

[FR Doc. 05-3478 Filed 2-24-05; 8:45 am]

BILLING CODE 4210-29-P